DEPARTMENT OF DEFENSE

Department of the Navy

[Docket ID: USN-2010-0026]

Privacy Act of 1974; System of Records

AGENCY: U.S. Marine Corps, Department of the Navy, DoD.

ACTION: Notice to delete seven systems of records.

SUMMARY: The U.S. Marine Corps proposes to delete seven systems of records notices from its existing inventory of record systems subject to the Privacy Act of 1974, (5 U.S.C. 552a), as amended.

DATES: This proposed action will be effective without further notice on August 25, 2010, unless comments are received which result in a contrary determination.

ADDRESSES: You may submit comments, identified by docket number and title, by any of the following methods:

• Federal Rulemaking Portal: http://www.regulations.gov. Follow the instructions for submitting comments.

• Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Ross at (703) 614-4008.

SUPPLEMENTARY INFORMATION: The Office of the Secretary of Defense systems of records notices subject to the Privacy Act of 1974, (5 U.S.C. 552a), as amended, have been published in the Federal Register and are available from the Headquarters, U.S. Marine Corps, FOIA/PA Section (ARSF), 2 Navy Annex, Room 3134, Washington, DC 20380-1775.

The U.S. Marine Corps proposes to delete seven systems of records notices from its inventory of record systems subject to the Privacy Act of 1974 (5 U.S.C. 552a), as amended. The proposed deletion is not within the purview of subsection (r) of the Privacy Act of 1974, (5 U.S.C. 552a), as amended, which requires the submission of a new or altered system report.

Dated: July 21, 2010.
Mitchell S. Bryman,
Alternate OSD Federal Register Liaison Officer, Department of Defense.

Deletions

M01070-7, Marine Corps Mobilization Processing System (MCMPS) Records, (April 2, 2010; 75 FR 16760).

M01070-6, Marine Corps Official Military Personnel Files (ODI-RMS), (March 17, 2008; 73 FR 14234).

M01080-1, Total Force Administration System Secure Personnel Accountability (TFAS SPA), (December 31, 2008; 73 FR 80379).

M01080-3, Total Force Historical Data Warehouse (TFDW), (December 17, 2009; 74 FR 66961).

M01080-2, U.S. Marine Corps Manpower Personnel Analysis Records, (December 31, 2008; 73 FR 80379).

M01040-1, Marine Corps Total Force Retention System Records (TFRS), (December 2, 2008; 73 FR 73259).

M01040-2, Marine Corps Total Force System (MCTFS), (March 23, 2009; 74 FR 12118).

Reason

These records are covered under system of records notice M01040-3, Marine Corps Manpower Management Information System (MCMMIS), April 29, 2010, 75 FR 22570, therefore these notices can be deleted.

[FR Doc. 2010-18249 Filed 7-23-10; 8:45 am]

BILLING CODE 5001-06-P